DEPARTMENT OF DEFENSE

Office of the Secretary

Department of Defense Military Family Readiness Council; Notice of Federal Advisory Committee Meeting

AGENCY: Under Secretary of Defense for Personnel and Readiness, DoD.

ACTION: Notice of Federal Advisory Committee meeting.

SUMMARY: The Department of Defense (DoD) is publishing this notice to announce that the following Federal Advisory Committee meeting of the Department of Defense Military Family Readiness Council will take place.

DATES: This meeting is open to the public and will be held on Tuesday, August 29, 2017 from 1:00 p.m. to 3:00 p.m.

ADDRESSES: 1155 Defense Pentagon PLC2 Pentagon Library and Conference Center, Room B6, Washington, DC 20301.

FOR FURTHER INFORMATION CONTACT: Ms. Melody McDonald or Dr. Randy Eltringham, (571) 372-0880 (Voice); (571) 372-5315 (Voice); (571) 372-0884 (Facsimile); OSD Pentagon OUSD P-R Mailbox Family Readiness Council, osd.pentagon.ousd-p-r.mbx.family-readiness-council@mail.mil (Email). Mailing address is Office of the Deputy Assistant Secretary of Defense (Military Community & Family Policy), Office of Family Readiness Policy, 4800 Mark Center Drive, Alexandria, VA 22350-2300, Room 3G15. The Official DoD MFRC Web site can be found at http://www.militaryonesource.mil/service-providers/mfrc.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: This is the third and final meeting of the Council for FY2017. During this meeting, Council members will: (1) Review written public submissions and DoD and Military Services military family readiness related policy issuances that were published between August 1, 2016 and July 31, 2017; (2) Discuss and vote on recommendations to be forwarded to the Secretary of Defense. [Note: Draft recommendations will focus on topics reviewed by the Council during FY2017. Topics include services provided to Special Needs Families (medical, family and state-liaison support) and Community Collaboratives and Partnerships as a strategy for meeting Service and family member information, referral and service delivery needs.]; and (3) Make recommendations for areas on which the Council should focus during FY2018.

Agenda

Welcome & Administrative Remarks.

Review of Written Public Submissions.

Review of Military Family Readiness Related Policy Issuances.

Presentation and Voting on MFRC Recommendations for the Secretary of Defense.

Closing Remarks: Looking Ahead to FY2018.

Note: Exact order may vary.

Meeting Accessibility: Pursuant to 5 U.S.C. 552b and 41 CFR 102-3.140 through 102-3.165, this meeting is open to the public, subject to the availability of space, on an RSVP list basis. Members of the public who are entering the Pentagon should arrive at the Pentagon Visitors Center waiting area (Pentagon Metro Entrance) at 12:00 p.m. on the day of the meeting to allow time to pass through security check points and to be escorted to the meeting location. Members of the public need to email their RSVP to the Council at osd.pentagon.ousd-p-r.mbx.family-readiness-council@mail.mil no later than 5:00 p.m. on Tuesday, August 22, 2017 to confirm seating availability and to request an escort or a handicapped accessible transportation cart if needed.

Written Statements: Interested persons may submit a written statement for review and consideration by the Council Chair and members. Written statements must not be longer than two type-written pages and should address the following details: The issue, discussion, and a recommended course of action. Additionally, those who make submissions are requested to avoid including personal identifiable information (PII) such as names of adults and children, phone numbers, addresses, social security numbers, etc.). Supporting documentation may also be included, as needed, to establish the appropriate historical context and to provide any necessary background information. Written submissions should be sent to the Council mailbox at osd.pentagon.ousd-p-r.mbx.family-readiness-council@mail.mil at least five (5) business days prior to the date of this meeting. If the written statement is not received at least five (5) business days prior to the meeting, the Designated Federal Officer (DFO) for the Council may choose to postpone consideration of the statement until the next open meeting of the Council. The DFO will review all timely submissions with the Council Chairman and ensure submitted written statements are provided to all members of the Council prior to the meeting that is subject to this notice.

Dated: July 31, 2017.
Aaron Siegel,
Alternate OSD Federal Register Liaison Officer, Department of Defense.

[FR Doc. 2017-16418 Filed 8-3-17; 8:45 am]

BILLING CODE 5001-06-P